DEPARTMENT OF ENERGY

Federal Energy Regulatory Commission

[Project No. UL94-1—Maine]

FPL Energy Maine Hydro, LLC; Notice to Modify a Restricted Service List for Comments on a Programmatic Agreement for Managing Properties Included in or Eligible for Inclusion in the National Register of Historic Places

January 12, 2000.

On April 23, 1998, the Federal Energy Regulatory Commission (Commission) issued a notice for the Upper and Middle Dams Storage Project (FERC No. UL 94-1) proposing to establish a restricted service list for the purpose of developing and executing a Programmatic Agreement for managing properties included in or eligible for inclusion in the National Register of Historic Places. The Upper and Middle Dams Storage Project is located in the headwaters of the Androscoggin River, in Oxford and Franklin Counties, Maine. FPL Energy Maine Hydro, LLC is the licensee.

Rule 2010 of the Commission's Rules of Practice and Procedure provides that, to eliminate unnecessary expense or improve administrative efficiency, the Secretary may establish a restricted service list for a particular phase or issue in a processing.¹ The restricted service list should contain the names of persons on the service list who, in the judgment of the decisional authority establishing the list, are active participants with respect to the phase or issue in the proceeding for which the list is established.

¹ 18 CFR 385.2010.

The following addition is made to the restricted service list notice issued on April 23, 1998: Frank H. Dunlap, FPL Energy Maine Hydro, LLC, 100 Middle Street, Portland ME 04101.

The address for Mr. David Dominie has changed. Delete “Central Maine Power Company, North Augusta Office Annex, 41 Anthony Avenue, Augusta, ME 04330” and replace with “EPRO, 41 Anthony Avenue, Augusta, ME 04330''.

The following are deleted from the restricted service list notice issued on April 23, 1998:

Jeffrey P. Musich, PE, Union Water Power Company, 150 Maine Street, Lewiston, ME 04243-1225.

R. Alec Giffen, Land & Water Associates, 9 Union Street, Hallowell, ME 04347.

Mona M. Janopaul, Trout Unlimited, 1500 Wilson Blvd, Arlington, VA 22209.

Sarah Verville, Esq., Central Maine Power Company, Edison Drive, Augusta, ME 04336.

Tom Sullivan, Gomez and Sullivan Engineers, 150 Concord State Road, Dunbarton, NH 03045.

Any person on the official service list for the above-captioned proceeding may request inclusion on the restricted service list. Such a request must be filed with the David P. Boergers, Secretary, Federal Energy Regulatory Commission, 888 First Street, NE., Washington, DC 20426, and served on each person whose name appears on the official service list. If no such requests are filed, the modified restricted service list will be effective at the end of the 15-day period. Otherwise, a further notice will be issued ruling on the motion.

Linwood A. Watson, Jr.,
Acting Secretary.

[FR Doc. 00-1182 Filed 1-18-00; 8:45 am]

BILLING CODE 6717-01-M